DEPARTMENT OF COMMERCE

National Oceanic and Atmospheric Administration

RIN 0648-XA880

Marine Mammals; Issuance of Permits

AGENCY: National Marine Fisheries Service (NMFS), National Oceanic and Atmospheric Administration (NOAA), Commerce.

ACTION: Notice; issuance of permits.

SUMMARY: Notice is hereby given that individuals and institutions have been issued Letters of Confirmation for activities conducted under the General Authorization for Scientific Research on marine mammals. See SUPPLEMENTARY INFORMATION for a list of names and address of recipients.

ADDRESSES: The Letters of Confirmation and related documents are available for review upon written request or by appointment in the following office: Permits and Conservation Division, Office of Protected Resources, NMFS, 1315 East-West Highway, Room 13705, Silver Spring, MD 20910; phone (301) 427-8401; fax (301) 713-0376.

FOR FURTHER INFORMATION CONTACT: Office of Protected Resources, Permits Division, (301) 427-8401.

SUPPLEMENTARY INFORMATION: The requested Letters of Confirmation have been issued under the authority of the Marine Mammal Protection Act of 1972, as amended (16 U.S.C. 1361 et seq.), and the regulations governing the taking and importing of marine mammals (50 CFR part 216). The General Authorization allows for bona fide scientific research that may result only in taking by level B harassment of marine mammals. The following Letters of Confirmation (LOC) were issued in Fiscal Year 2011.

File No. 15683: Issued to Dr. David Mann, University of South Florida, St. Petersburg, FL on October 15, 2010, authorizes visual and passive acoustic recordings, photo-identification, and behavioral observations of 22 cetacean species off the West Florida Shelf (including coastal waters to the continental shelf and slope, extending northwestward to the area near the Deepwater Horizon spill site). The purpose of the study is to build on a comprehensive, unique dataset that can be used as the basis for modeling cetacean distributions to determine how cetacean distributions vary between seasons, and if it is correlated with any physical or biological features. The LOC expires on October 31, 2015.

File No. 16103: Issued to Eric Montie, Ph.D., University of South Carolina Beaufort, Bluffton, SC on December 30, 2010, authorizes visual and passive acoustic recordings, photo-identification, and behavioral observations of bottlenose dolphins (Tursiops truncatus) in coastal waters surrounding Hilton Head Island, South Carolina, including the May River, Cooper River, Calibogue Sound, Colleton River, Okatie River, Chechessee River, Broad River, Port Royal Sound, adjoining creeks, and along the Atlantic Ocean side of Hilton Head Island, not extending more than one mile offshore. The objectives of the study are to: (1) Acoustically and visually determine distribution of dolphins and their prey, (2) determine the acoustic behavior of dolphins and their prey, and (3) determine the effect of anthropogenic noise on dolphin and prey distributions. The LOC expires on December 31, 2015.

File No. 16104: Issued to Dr. Robert Young, Coastal Carolina University, Conway, SC on December 30, 2010, authorizes visual surveys, photo-identification, and behavioral observations in the marsh, inland and coastal waters out to 10 miles offshore of South Carolina and North Carolina. Studies will be primarily focused on the North Inlet/Winyah Bay system near Georgetown, SC, coastal waters near Murrells Inlet, SC, Cape Romain near McClellanville, SC, the Bull Creek/May River system near Bluffton, SC and Little River Inlet, SC. The purpose of the study is to: (1) Continue an on-going dolphin ecology research program, which includes studies on bioenergetics and birth timing; and (2) continue photo-ID and transect survey effort to contribute to understanding of abundance, stock structure, and residency of bottlenose dolphins along the Southeast U.S. coast. The LOC expires on December 31, 2015.

File No. 16183: Issued to Daniela Maldini, Okeanis, Moss Landing, CA on March 2, 2011, authorizes vessel surveys, photo-identification, and behavioral observations off the California coast with focuses in Monterey Bay, Morro Bay, Santa Barbara, Half-Moon Bay and San Francisco Bay within 1 km of the shoreline. The purposes of the study are to estimate the population size of bottlenose dolphins in Monterey Bay and compare the Monterey Bay photo-identification catalogue to the Southern California Bight catalogue to revise population estimates for the California coastal stock of bottlenose dolphins. The LOC expires on February 29, 2016.

File No. 16185: Issued to Dr. Andrew J. Read, Duke University, Beaufort, NC on March 30, 2011, authorizes visual and aerial surveys including photographic identification, behavioral observation and passive acoustic monitoring (PAM) with a towed array of 22 non-endangered cetacean species. Studies will focus on bottlenose dolphins, Atlantic spotted dolphins (Stenella frontalis) and pilot whales (Globicephala spp.), and be conducted in estuarine and coastal waters out to 100 nautical miles offshore of the North Carolina/Virginia border south to latitude 29 degrees N. Specific goals are to: (1) Continue with photo-ID and transect survey effort to contribute to understanding of occurrence, distribution, and ranging patterns of cetaceans along the Southeast U.S. coast, (2) investigate pilot whale interactions with longline gear, (3) conduct year-round line transect surveys in the Navy's Undersea Warfare Training Range off of North Carolina and northern Florida, (4) conduct PAM during vessel based surveys, and (5) coordinate with the stranding network to cross reference stranded animals with photo-identification catalogs. The LOC expires on April 1, 2016.

File No. 16232: Issued to GeoMarine, Inc., Plano, TX [Responsible Party: Jason Holt See; Principle Investigator: Amy Whitt] on April 7, 2011, authorizes visual surveys, close approach, photo-identification, and behavioral observations along the coast from New Jersey to North Carolina and extending from 19 to 36 nautical miles (NM) offshore. The purpose of the study is to provide baseline information on 31 non-endangered marine mammal species that would better inform offshore renewable energy developers, regulators, and other stakeholders of the distribution, abundance, behavior, and migration of marine species in nearshore waters of southern New Jersey, Delaware, Maryland, and Virginia, which is a region of significant potential offshore wind farm development. The LOC expires on March 31, 2016.

File No. 16223: Issued to Frank Fish, Ph.D., Department of Biology, West Chester University, West Chester, PA on April 25, 2011, to videotape and observe harbor seals (Phoca vitulina) and grey seals (Halichoerus grypus) off Duck Island, ME. The purpose of the study is to photo-document terrestrial locomotion of phocid seals to assess potential habitats that can be used by seals if populations are to increase along the northeastern U.S. coast. The LOC expires on August 30, 2014.

File No. 16260: Issued on April 25, 2011 to William E Bemis, Ph.D., Kingsbury Director, Shoals Marine Laboratory, Portsmouth, NH for photo-identification and observations of harbor seals and gray seals at Duck Island, ME. The study objectives are to photo-document pinniped distribution and use of islands around the Isles of Shoals, as well as monitor the inter and intra-species interactions and behaviors critical to understanding the life history of these marine mammals throughout the entire Gulf of Maine for conservation, health and management. The LOC expires on June 30, 2015.

File No. 14903: This LOC, held by Lisa Sette, Provincetown Center for Coastal Studies, Provincetown, MA, was modified on April 27, 2011, to include additional sampling locations within Nantucket Sound. The objectives of the study are to provide information on the haul-out structure and possible distribution shifts of harbor and gray seals around New England. The LOC expires on March 1, 2015.

File No. 1094-1836: Issued to Peggy Stap, Marine Life Studies, Monterey, California on April 27, 2006 was extended on April 29, 2011. The purpose of the research is to study the foraging strategies of transient and offshore killer whales (Orcinus orca) and investigate the abundance, distribution, movement, and frequency of occurrence of other cetacean species in the Monterey Bay National Marine Sanctuary. The LOC was extended from April 30, 2011 to July 31, 2011.

File No. 16381: Issued on May 16, 2011 to Maddalena Bearzi, Ph.D., Ocean Conservation Society, Marina Del Rey, CA for photo-identification, observations, and harassment of marine mammals during vessel surveys in the coastal and offshore waters of Southern California. The study objectives are to continue the long-term study of inshore/offshore marine mammal ecology and investigations on the presence of skin diseases and physical deformities on coastal and offshore bottlenose dolphins. The LOC expires on May 31, 2016.

File No. 15621: Issued on June 3, 2011 to Peggy Stap, Marine Life Studies, Monterey, CA for photo-identification, passive acoustic recordings, behavioral observations, underwater photography and video, and harassment of marine mammals during vessel surveys in the Monterey Bay National Marine Sanctuary. The objectives are to: (1) study the foraging strategies of killer whales (transient and offshore) within the sanctuary and (2) investigate the abundance, distribution, movement, and frequency of occurrence of cetaceans in the sanctuary, specifically the interaction of mixed species groups. In regards to killer whales, Ms. Stap plans to investigate: (1) Foraging vocalizations, (2) topographical influence on foraging strategies, and (3) idiosyncratic prey preferences of subgroups. The LOC expires on June 15, 2016.

File No. 16299: Issued to Ann Weaver, Ph.D., Argosy University, Sarasota, FL on June 3, 2011 authorizes vessel surveys, photo-identification and behavioral observations of bottlenose dolphins near John's Pass on the west coast of Florida. The objective is to complete a study begun in 2005 that is designed to examine the before, during, and after affects of bridge construction on the abundance, distribution, and behavior of dolphins. Construction was delayed, so Dr. Weaver has not yet collected data for the after phase of her project. The LOC expires on June 15, 2016.

File No. 13427: Issued to Gregory D. Kaufman, Pacific Whale Foundation, Wailuku, HI on July 26, 2011 authorizes an amendment to LOC No. 13427-02 to expand the survey area to include inshore waters (<100 fathoms) of Maui County, Hawaii and to include vessel surveys, photo identification, focal follows, and passive acoustic recording of spinner dolphins. The objective of the additional research is to gather information on the movement patterns and acoustic behavior of spinner dolphins (Stenella longirostris) in the waters of Maui County, Hawaii and will test for differences in the peak time of resting between locations and differences in patterns due to the presence and absence of boats. This amended GA LOC supercedes version 13427-02, issued on November 24, 2010. The LOC expires on June 15, 2013.

File No. 16522: Issued to Wendy Noke Durden, Hubbs-SeaWorld Research Institute, Melbourne Beach, FL on September 7, 2011 authorizes vessel surveys, aerial surveys, photo-identification, and behavioral observations off the east coast of Florida from the northernmost limits of Flagler County to Jupiter Inlet, which includes the Intracoastal Waterway (ICW), Indian River Lagoon (IRL), and Halifax Rivers. The purposes of the study are to: (1) Continue monitoring IRL bottlenose dolphin abundance and distribution using line-transect aerial surveys, (2) examine dolphin abundance, distribution, residency, and habitat use of Halifax River animals, (3) determine group size and composition inhabiting the ICW, (4) document seasonal movement patterns, (5) simultaneously monitor the direct access point for influx/efflux (Ponce Inlet) of dolphins to/from the Atlantic ocean, and (6) evaluate dispersal in IRL dolphins. The LOC expires on September 30, 2016.

In compliance with the National Environmental Policy Act of 1969 (42 U.S.C. 4321 et seq.), a final determination has been made that the activities are categorically excluded from the requirement to prepare an environmental assessment or environmental impact statement.

Dated: December 15, 2011.
P. Michael Payne,
Chief, Permits and Conservation Division, Office of Protected Resources, National Marine Fisheries Service.

[FR Doc. 2011-32689 Filed 12-20-11; 8:45 am]

BILLING CODE 3510-22-P